DEPARTMENT OF HOUSING AND URBAN DEVELOPMENT

[Docket No. FR-5480-N-72]

Notice of Submission of Proposed Information Collection to OMB; Application for the Community Development Block Grant Program for Indian Tribes and Alaska Native Villages (ICDBG)

AGENCY: Office of the Chief Information Officer, HUD.

ACTION: Notice.

SUMMARY: The proposed information collection requirement described below has been submitted to the Office of Management and Budget (OMB) for review, as required by the Paperwork Reduction Act. The Department is soliciting public comments on the subject proposal.

Application for funding of Indian and Alaska Native Community Development Block Grants for the development of decent housing, environment and economic opportunities for low and moderate-income persons. For the Indian Community Development Block Grant (ICDBG) Program, tribes are required to keep records of activities. These records include statements of conditions, certifications of activities/plans and other items. This paperwork submission addresses the final rule for recordkeeping and reporting requirements involved in implementing subsection (h) of the 1974 Housing and Community Development Act by revising HUD's ICDBG program regulations at 24 CFR 1003 implements § 1003.209 entitled “Prohibition on use of assistance for employment relocation activities” which describes the ICDBG “job pirating” provisions. The final rule also amends § 1003.505 entitled “Records to be Maintained” to ensure that appropriate recordkeeping requirements are followed.

DATES: Comments Due Date: August 29, 2011.

ADDRESSES: Interested persons are invited to submit comments regarding this proposal. Comments should refer to the proposal by name and/or OMB approval Number (2577-0191) and should be sent to: HUD Desk Officer, Office of Management and Budget, New Executive Office Building, Washington, DC 20503; e-mail OIRA-Submission@omb.eop.gov; fax: 202-395-5806.

FOR FURTHER INFORMATION CONTACT: Colette Pollard, Reports Management Officer, QDAM, Department of Housing and Urban Development, 451 Seventh Street, SW., Washington, DC 20410; e-mail Colette Pollard at Colette.Pollard@hud.gov; or telephone (202) 402-3400. This is not a toll-free number. Copies of available documents submitted to OMB may be obtained from Ms. Pollard.

SUPPLEMENTARY INFORMATION: This notice informs the public that the Department of Housing and Urban Development has submitted to OMB a request for approval of the Information collection described below. This notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice Also Lists the Following Information

Title of Proposal: Application for the Community Development Block Grant Program for Indian Tribes and Alaska Native Villages (ICDBG).

OMB Approval Number: 2577-0191.

Form Numbers: HUD 2516, SF 425, SF 424 Supp, HUD 96010, SF 269, SF 272, HUD 4123, HUD 4125, SF 424, HUD 2880, HUD 2993, HUD 2994-A.

Description of the Need for the Information and Its Proposed Use: Application for funding of Indian and Alaska Native Community Development Block Grants for the development of decent housing, environment and economic opportunities for low and moderate-income persons. For the Indian Community Development Block Grant (ICDBG) Program, tribes are required to keep records of activities. These records include statements of conditions, certifications of activities/plans and other items. This paperwork submission addresses the final rule for recordkeeping and reporting requirements involved in implementing subsection (h) of the 1974 Housing and Community Development Act by revising HUD's ICDBG program regulations at 24 CFR 1003 implements § 1003.209 entitled “Prohibition on use of assistance for employment relocation activities” which describes the ICDBG “job pirating” provisions. The final rule also amends § 1003.505 entitled “Records to be Maintained” to ensure that appropriate recordkeeping requirements are followed.

Frequency of Submission: On occasion, Annually.

| Number of respondents | Annual responses | x | Hours per response | = | Burden hours
Reporting Burden | 225 | 4.177 |  | 10.739 |  | 10,095

Total Estimated Burden Hours: 10,095.

Status: Revision of a currently approved collection.

Authority: Section 3507 of the Paperwork Reduction Act of 1995, 44 U.S.C. 35, as amended.

Dated: July 25, 2011.
Colette Pollard,
Departmental Reports Management Officer, Office of the Chief Information Officer.

[FR Doc. 2011-19282 Filed 7-28-11; 8:45 am]

BILLING CODE 4210-67-P